DEPARTMENT OF ENERGY

Federal Energy Regulatory Commission

[Docket No. RP15-276-000]

MoGas Pipeline LLC; Notice of Technical Conference

Take notice that a technical conference will be held on Tuesday, February 24, 2015, at 10:00 a.m. (Eastern Standard Time), in a room to be designated at the offices of the Federal Energy Regulatory Commission (Commission), 888 First Street NE., Washington, DC 20426.

At the technical conference, the Commission Staff and the parties to the proceeding should be prepared to discuss all issues set for the technical conference as established in the January 30, 2015 Order.¹

¹ MoGas Pipeline LLC, 150 FERC ¶ 61,062 (2015).

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact Kenneth Witte at (202) 502-8057 or email Kenneth.Witte@ferc.gov.

Dated: February 11, 2015.
Nathaniel J. Davis, Sr.,
Deputy Secretary.

[FR Doc. 2015-03264 Filed 2-17-15; 8:45 am]

BILLING CODE 6717-01-P